DEPARTMENT OF COMMERCE

National Oceanic and Atmospheric Administration

50 CFR Part 648

[Docket No. 070817467-8554-02]

RIN 0648-XA171

Magnuson-Stevens Fishery Conservation and Management Act Provisions; Fisheries of the Northeastern United States; Atlantic Sea Scallop Fishery; Closure of the Delmarva Scallop Access Area to Limited Access General Category (LAGC) Individual Fishing Quota (IFQ) Scallop Vessels

AGENCY: National Marine Fisheries Service (NMFS), National Oceanic and Atmospheric Administration (NOAA), Department of Commerce.

ACTION: Temporary rule; closure.

SUMMARY: NMFS announces that the Delmarva Scallop Access Area will close to LAGC IFQ scallop vessels for the remainder of the 2010 fishing year. Therefore, as of the effective date, no scallop vessel fishing under LAGC IFQ regulations may declare its intent to enter, or fish in the Delmarva Scallop Access Area. This action is based on the determination that 714 general category scallop trips into the Delmarva Access Area are projected to be taken as of 0001 hours, January 29, 2011. This action is being taken to prevent the allocation of LAGC IFQ trips in the Delmarva Scallop Access Area from being exceeded during the 2010 fishing year, in accordance with the regulations implementing Framework 21 to the Atlantic Sea Scallop Fishery Management Plan (FMP) and the Magnuson-Stevens Fishery Conservation and Management Act.

DATES: Effective January 29, 2011, through February 28, 2011.

FOR FURTHER INFORMATION CONTACT: Don Frei, Fishery Management Specialist, (978) 281-9221, fax (978) 281-9135.

SUPPLEMENTARY INFORMATION: Regulations governing fishing activity in the Sea Scallop Access Areas are found at §§ 648.59 and 648.60. These regulations authorize vessels issued a valid LAGC IFQ scallop permit to fish in the Delmarva Scallop Access Area under specific conditions, including a total of 714 trips that may be taken by LAGC IFQ vessels during the 2010 fishing year. The regulations at § 648.59(a)(3)(ii) require the Delmarva Scallop Access Area to be closed to LAGC IFQ vessels once the Northeast Regional Administrator has determined that the allowed number of trips are projected to be taken.

Based on trip declarations by LAGC IFQ scallop vessels fishing in the Delmarva Scallop Access Area, and analysis of fishing effort, a projection concluded that 714 trips will have been taken on January 29, 2011. Therefore, in accordance with the regulations at § 648.59(a)(3)(ii), the Delmarva Scallop Access Area is closed to all LAGC IFQ scallop vessels as of January 29, 2011. Therefore, as of this effective date, no scallop vessel fishing under LAGC IFQ regulations may declare its intent to enter, or fish in the Delmarva Scallop Access Area. Any vessel that has declared into the LAGC IFQ Delmarva Access Area scallop fishery, complied with all trip notification and observer requirements, and crossed the VMS demarcation line on the way to the area, may complete the trip. This closure is in effect for the remainder of the 2010 scallop fishing year under current regulations.

Classification

This action is required by 50 CFR part 648 and is exempt from review under Executive Order 12866.

This action closes the Delmarva Scallop Access Area to all LAGC IFQ category scallop vessels for the remainder of the 2010 fishing year. The regulations at § 648.59(e)(4)(ii) require such action to ensure that LAGC IFQ scallop vessels do not take more than their allocated number of trips in the Delmarva Scallop Access Area. The Delamarva Scallop Access Area opened for the 2010 fishing year at 0001 hours on March 1, 2010. Data indicating the LAGC IFQ scallop fleet has taken all of the Delmarva Scallop Access Area trips have only recently become available. To allow LAGC IFQ scallop vessels to continue to take trips in the Delmarva Scallop Access Area during the period necessary to publish and receive comments on a proposed rule would result in vessels taking much more than the allowed number of trips in the Delmarva Scallop Access Area. Excessive trips and harvest from the Delmarva Scallop Access Area would result in excessive fishing effort in the Delmarva Scallop Access Area, where effort controls are critical, thereby undermining conservation objectives of the FMP. Should excessive effort occur in the Delmarva Scallop Access Area, future management measures would need to be more restrictive. Based on the above, under 5 U.S.C. 553(d)(3), proposed rulemaking is waived because it would be impracticable and contrary to the public interest to allow a period for public comment.

Furthermore, for the same reasons, there is good cause under 5 U.S.C. 553(d)(3) to waive the 30-day delayed effectiveness period for this action.

Authority: 16 U.S.C. 1801 et seq.

Dated: January 26, 2011.
Emily H. Menashes,
Acting Director, Office of Sustainable Fisheries, National Marine Fisheries Service.

[FR Doc. 2011-2068 Filed 1-26-11; 4:15 pm]

BILLING CODE 3510-22-P